DEPARTMENT OF DEFENSE

Department of the Navy

Meeting of the Chief of Naval Operations (CNO) Executive Panel

AGENCY: Department of the Navy, DoD.

ACTION: Notice of closed meeting.

SUMMARY: The CNO Executive Panel is to report the recommendations of the Expeditionary Strike Study Group to the Chief of Naval Operations. This meeting will consist of discussions relating to Expeditionary Strike capabilities as a context to broader U.S. national capabilities and strategic planning. This meeting will be closed to the public.

DATES: The meeting will be held on Friday, December 5, 2003, from 12 to 1 p.m.

ADDRESSES: The meeting will be held at the Chief of Naval Operations dining room, Room 4E641, 2000 Navy Pentagon, Washington, DC 20350-2000.

FOR FURTHER INFORMATION CONTACT: Commander Kevin Wilson, CNO Executive Panel, 4825 Mark Center Drive, Alexandria, VA 22311, (703) 681-4906 or Mr. Mark Miller, CNO Executive Panel, (703) 681-4924.

SUPPLEMENTARY INFORMATION: Pursuant to the provisions of the Federal Advisory Committee Act (5 U.S.C. App. 2), these matters constitute classified information that is specifically authorized by Executive Order to be kept secret in the interest of national defense and are, in fact, properly classified pursuant to such Executive Order.

Accordingly, the Secretary of the Navy has determined in writing that the public interest requires that all sessions of the meeting be closed to the public because they will be concerned with matters listed in section 552b(c)(1) of title 5, United States Code.

Dated: November 24, 2003.
J.T. Baltimore,
Lieutenant Commander, Judge Advocate General's Corps, U.S. Navy, Alternate Federal Register Liaison Officer.

[FR Doc. 03-29907 Filed 11-28-03; 8:45 am]

BILLING CODE 3810-FF-P